DEPARTMENT OF ENERGY

Federal Energy Regulatory Commission

Combined Notice of Filings #2

Take notice that the Commission received the following electric rate filings:

Docket Numbers: ER15-746-003.

Applicants: RC Cape May Holdings, LLC.

Description: Report Filing: April 2016 Refund Report to be effective N/A.

Filed Date: 4/21/16.

Accession Number: 20160421-5098.

Comments Due: 5 p.m. ET 5/12/16.

Docket Numbers: ER15-878-000; ER15-878-001.

Applicants: Midcontinent Independent System Operator, Inc.

Description: Midcontinent Independent System Operator, Inc. submits tariff filing per 35.19a(b) Refund Report to be effective N/A.

Filed Date: 4/21/16.

Accession Number: 20160421-5083.

Comments Due: 5 p.m. ET 5/12/16.

Docket Numbers: ER15-1825-004.

Applicants: California Independent System Operator Corporation.

Description: Compliance filing: 2016-4-20_PetitionLtdWaiver-Request_Short_Comment_Period (ER15-1825) to be effective N/A.

Filed Date: 4/20/16.

Accession Number: 20160420-5166.

Comments Due: 5 p.m. ET 4/27/16.

Docket Numbers: ER16-438-001; ER15-2211-007; ER13-1266-006.

Applicants: Marshall Wind Energy LLC, MidAmerican Energy Services, LLC, CalEnergy, LLC.

Description: Supplement to December 18, 2015 Updated Market Power Analysis for Southwest Power Pool Region of Marshall Wind Energy LLC, et. al.

Filed Date: 4/20/16.

Accession Number: 20160420-5194.

Comments Due: 5 p.m. ET 5/11/16.

Docket Numbers: ER16-897-002.

Applicants: California Independent System Operator Corporation.

Description: Compliance filing: 2016-4-20_PetitionLtdWaiver-Request_Short_Comment_Period (ER16-897) to be effective N/A.

Filed Date: 4/20/16.

Accession Number: 20160420-5167.

Comments Due: 5 p.m. ET 4/27/16.

Docket Numbers: ER16-1076-001.

Applicants: 360Recycling.

Description: Tariff Amendment: Amended 360 Recycling MBR Filing to be effective 4/19/2016.

Filed Date: 4/21/16.

Accession Number: 20160421-5097.

Comments Due: 5 p.m. ET 5/12/16.

Docket Numbers: ER16-1482-000.

Applicants: PJM Interconnection, L.L.C.

Description: § 205(d) Rate Filing: Amendment to WMPA SA No. 3524, Queue No. X3-066 per Assignment to Marina Energy to be effective 3/27/2013.

Filed Date: 4/21/16.

Accession Number: 20160421-5099.

Comments Due: 5 p.m. ET 5/12/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2016.
Nathaniel J. Davis, Sr.,
Deputy Secretary.

[FR Doc. 2016-09825 Filed 4-26-16; 8:45 am]

BILLING CODE 6717-01-P